DEPARTMENT OF THE INTERIOR

National Park Service

Environmental Statements; Availability, etc: Arrowhead-Weston Transmission Line Right-of-Way Crossing of the Saint Croix National Scenic Riverway, WI

AGENCY: National Park Service, Interior.

ACTION: Notice of availability of the Draft Environmental Impact Statement for the Arrowhead-Weston Transmission Line Right-of-Way Crossing of the Saint Croix National Scenic Riverway, Wisconsin.

SUMMARY: Pursuant to section 102(2) of the National Environmental Policy Act of 1969, the National Park Service (NPS) announces the availability of the draft environmental impact statement (EIS) for the Arrowhead-Weston Transmission Line Right-of-Way Crossing of the Saint Croix National Scenic Riverway (Riverway), Wisconsin.

DATES: There will be a 60-day public review period for comments on this document. Comments on the Draft EIS must be received no later than 60-days after the Environmental Protection Agency publishes its notice of availability in the Federal Register. A public open house for information about, or to make comment on, the Draft EIS will be announced in the local media and the Riverway's Web site when they are scheduled. Information about meeting time and place will also be available by contacting the Riverway at (715) 483-3284 or by visiting the Riverway's Web site at http://www.nps.gov/sacn/management/planning_docs.html.

ADDRESSES: Copies of the draft EIS will be sent to over 100 interested parties, as well as to public libraries throughout the project area. Please check our Web site for a listing of the libraries to which the draft EIS will be sent. The draft EIS is approximately 500 pages long with many figures and oversize color plates. Due to the size of the document, it was not possible to provide it over the Internet. A limited number of hardcopies are available upon request for individuals or organizations with special needs. Additional copies are available on compact disk. To request a hardcopy of the draft EIS or a copy on compact disk, please contact the Superintendent, Saint Croix National Scenic Riverway, P.O. Box 708, St. Croix Falls, WI 54024, Attention: Jill Medland, or phone at (715) 483-3284 Ext 609.

FOR FURTHER INFORMATION CONTACT: Jill Medland, Planning and Compliance Specialist, Saint Croix National Scenic Riverway, P.O. Box 708, 401 Hamilton Street, St. Croix Falls, WI 54024, or by phone (715) 483-3284 Ext 609.

SUPPLEMENTARY INFORMATION: The Arrowhead-Weston Project (Project) is a 345 kilovolt (kV) electric transmission line proposed by Minnesota Power, Wisconsin Public Service Corporation, and American Transmission Company (the Applicant's) that would run 220 miles from Duluth, Minnesota to Wausau, Wisconsin. The governmental entity with approval authority for the overall Project is the Public Service Commission of Wisconsin (PSCW). The PSCW approved the Project in 2001 and re-approved it in 2003. According to the Applicants, and as reflected in the PSCW decision, the purpose of the overall Project is to (1) strengthen the bulk transmission system by providing a second high-capacity connection across the Minnesota-Wisconsin interface and (2) to transmit electricity from the upper Midwest to markets in the eastern Wisconsin area.

The State-approved route of the Project would cross the Namekagon River, which is part of Riverway, at a location approximately 10 miles downstream of the city of Hayward in Washburn County, Wisconsin. The NPS has received a right-of-way (ROW) request from the Applicants to cross the Riverway with the State-approved Project. To reach a decision about the right-of-way request to cross the Riverway, the NPS is preparing an EIS. The Corps of Engineers (Corps) is a cooperating agency on the EIS, since the Corps would also need to issue a permit for the river crossing.

The Applicant's propose to cross the Riverway and the Namekagon River at an existing 161kV electric transmission line corridor granted to Xcel Energy as an easement by private landowners prior to NPS land acquisition in the area. All alternatives (except no action) would require additional right-of-way from the NPS. The following alternatives are under consideration for crossing the Namekagon River:

No Action (Deny ROW Request): The existing 161kV line would remain as it is on 70-foot wood poles (this alternative would require the Applicants to go around the Riverway and reopen of the State approval process);

Alternative 1: This alternative would double circuit the 345kV and 161kV lines overhead on 145-150 foot-tall single steel poles (Applicant's preferred);

Short-span Option: This option calls for the use of 130 to 150 foot-tall steel structures to carry each of three electrical phases, using bundled conductors for each circuit, with a pair of overhead shield wires, for the entire crossing.

Long-span Option: This option calls for much the same equipment for the right-of-way except at the actual crossing of the Namekagen River. At the river crossing, the Project will use shorter (125 foot-tall) steel structures set further back from the river, use of special long-span conductors which allows fewer conductors and longer span lengths, and the elimination of the two overhead shield wires.

Alternative 2: This alternative would have a single circuit 345kV overhead on 120-130 foot-tall single steel poles, underground the existing 161kV, and use transition structures at the overhead-to-underground changeover;

Alternative 3: This alternative would upgrade the existing 161kV to 85-95-foot tall steel poles, place the 345kV underground, and use transition structures at the underground-to-overhead changeover;

Alternative 4: This alternative would place both 345kv and 161kV underground, and use transition structures at the underground-to-overhead changeover.

The NPS preferred alternative is alternative 1, the long-span option. The NPS believes the no action alternative is the environmentally preferred alternative because this alternative would result in no changes to the river corridor.

Persons wishing to comment on the draft EIS may do so by any one of several methods. They may attend the open house noted above. They may mail comments to Superintendent, Saint Croix National Scenic Riverway, P.O. Box 708, 401 Hamilton Street, St. Croix Falls, WI 54024, Attention: Jill Medland. They, also, may comment via e-mail to sacn_aw_row_eis@nps.gov (include name and return address in the e-mail message). Finally, they may hand-deliver comments to Riverway Headquarters, Saint Croix National Scenic Riverway, 401 Hamilton Street, St. Croix Falls, WI 54024.

The NPS practice is to make comments, including names and home addresses of respondents, available for public review during regular business hours. Individual respondents may request that we withhold their home address from the record, which we will honor to the extent allowable by law. There, also, may be circumstances in which we would withhold from the record a respondent's identify, as allowable by law. If you wish us to withhold your name and/or address, you must state this prominently at the beginning of your comment. However, we will not consider anonymous comments. We will make all submissions from organizations or businesses, and from individuals identifying themselves as representatives or officials of organizations or businesses available for public inspection in their entirety.

The responsible official is Mr. Ernest Quintana, Midwest Regional Director, National Park Service.

Dated: February 17, 2004.
David N. Given,
Acting Regional Director, Midwest Region.

[FR Doc. 04-7134 Filed 3-30-04; 8:45 am]

BILLING CODE 4310-DE-P